DEPARTMENT OF TRANSPORTATION

Office of the Secretary

Transportation Partnership Council (The Council) Meeting

AGENCY: Department of Transportation, Office of the Secretary.

ACTION: Notice of meeting.

SUMMARY: The U.S. Department of Transportation (DOT) announces a meeting of the Transportation Partnership Council (the Council). Notice of this meeting is required under the Federal Advisory Committee Act.

Time and Place: The Council will meet on Wednesday, December 13, 2000, at 10 a.m., at the U.S. Department of Transportation, Nassif Building, room 10214, 400 Seventh Street, SW, Washington, DC 20590. The room is located on the 10th floor.

Type of Meeting: These meetings will be open to the public. Seating will be available on a first-come, first-served basis. Handicapped individuals wishing to attend should contact DOT to obtain appropriate accommodations.

Point of Contact: Jean B. Lenderking, Human Resource Leadership Division, M-13, U.S. Department of Transportation, Nassif Building, 400 Seventh Street, SW., room 7411, Washington, DC 20590, (202) 366-8085.

SUPPLEMENTARY INFORMATION: The purpose of this meeting is provide final report on Phase II of the DOT labor-management climate study, address next steps for integrating labor-management strategic plan with climate assessment results; and review Council accomplishments.

Public Participation

We invite interested persons and organizations to submit comments. Mail or deliver your comments or recommendations to Ms. Jean Lenderking at the address shown above. Comments should be received by December 1, 2000 in order to be considered at the December 13th meeting.

Issued in Washington, DC, on November 20, 2000.
For the Department of Transportation.
Jean Lenderking,
Labor Relations Officer.

[FR Doc. 00-30259 Filed 12-04-00; 8:45 am]

BILLING CODE 4910-62-P